DEPARTMENT OF ENERGY

10 CFR Part 431

[Docket No. EERE-2013-BT-STD-0030]

RIN 1904-AD01

Energy Efficiency Program for Commercial and Industrial Equipment: Energy Conservation Standards for Commercial Packaged Boilers

AGENCY: Office of Energy Efficiency and Renewable Energy, Department of Energy.

ACTION: Notice of public meeting and availability of the Framework Document.

SUMMARY: The U.S. Department of Energy (DOE) is initiating the rulemaking and data collection process to consider amending the energy conservation standards for commercial packaged boilers. This rulemaking will satisfy the statutory requirement for DOE to review energy conservation standards for covered equipment every six years to determine whether such standards should be amended. After concluding its initial review of the available information and public comments, DOE will publish either a notice of the determination that standards do not need to be amended, or a notice of proposed rulemaking including new proposed standards. To inform interested parties and to facilitate this process, DOE has prepared a Framework Document that details the analytical approach and scope of coverage for the rulemaking, and identifies several issues about which DOE is particularly interested in receiving comments. DOE will hold a public meeting to discuss and receive comments on its planned analytical approach and the issues it will address in this rulemaking proceeding. DOE welcomes written comments and relevant data from the public on any subject within the scope of this rulemaking. A copy of the Framework Document is available at: http://www1.eere.energy.gov/buildings/appliance_standards/product.aspx/productid/74.

DATES: Meeting: DOE will hold a public meeting on Tuesday, October 1, 2013, from 9:00 a.m. to 4:00 p.m. in Washington, DC. Additionally, DOE plans to conduct the public meeting via webinar. You may attend the public meeting via webinar, and registration information, participant instructions, and information about the capabilities available to webinar participants will be published on DOE's Web site at: http://www1.eere.energy.gov/buildings/appliance_standards/product.aspx/productid/74. Participants are responsible for ensuring their systems are compatible with the webinar software.

DOE must receive requests to speak at the public meeting before 4:00 p.m., Tuesday, September 17, 2013. DOE must receive an electronic copy of the statement with the name and, if appropriate, the organization of the presenter to be given at the public meeting before 4:00 p.m., Tuesday, September 24, 2013.

Comments: DOE will accept written comments, data, and information regarding the Framework Document before and after the public meeting, but no later than October 18, 2013.

ADDRESSES: The public meeting will be held at the U.S. Department of Energy, Forrestal Building, Room 8E-089, 1000 Independence Avenue SW., Washington, DC 20585-0121. Please note that any foreign national planning to participate in the public meeting is subject to advance security screening procedures, and should so inform DOE of this fact as soon as possible by contacting Ms. Brenda Edwards at (202) 586-2945. Please note further that any visitor with a personal computer who enters the Forrestal Building is required to be screened and to obtain a property pass upon entry. Such visitors should allow 45 minutes for the screening process. As noted above, persons may also attend the public meeting via webinar. See “Public Participation” in SUPPLEMENTARY INFORMATION below for meeting details.

Interested parties are encouraged to submit comments electronically. However, comments may be submitted by any of the following methods:

• Federal eRulemaking Portal: www.regulations.gov. Follow the instructions for submitting comments.

• Email: PkgdBoilers2013STD0030@ee.doe.gov. Include docket number EERE-2013-BT-STD-0030 and/or regulatory identifier number (RIN) 1904-AD01 in the subject line of the message. All comments should clearly identify the name, address, and, if appropriate, organization of the commenter. Submit electronic comments in WordPerfect, Microsoft Word, portable document format (PDF), or American Standard Code for Information Interchange (ASCII) file format, and avoid the use of special characters or any form of encryption.

• Postal Mail: Ms. Brenda Edwards, U.S. Department of Energy, Building Technologies Office, Mailstop EE-2J, Framework Document for Commercial Packaged Boilers, Docket No. EERE-2013-BT-STD-0030 and/or RIN 1904-AD01, 1000 Independence Avenue SW., Washington, DC 20585-0121. If possible, please submit all items on a compact disc (CD), in which case it is not necessary to include printed copies. Note that comments sent by postal mail are often delayed and may be damaged as a result of the U.S. Postal Service mail screening process.

• Hand Delivery/Courier: Ms. Brenda Edwards, U.S. Department of Energy, Building Technologies Office, Sixth Floor, 950 L'Enfant Plaza SW., Washington, DC 20024. Telephone: (202) 586-2945. If possible, please submit all items on a CD, in which case it is not necessary to include printed copies.

Instructions: All submissions received must include the agency name and docket number and/or RIN for this rulemaking. No telefacsimilies (faxes) will be accepted.

Docket: The docket is available for review at www.regulations.gov, including Federal Register notices, public meeting attendee lists and transcripts, public comments, and other supporting documents and materials (search EERE-2013-BT-STD-0030). Otherwise, all documents in the docket are listed in the www.regulations.gov index. However, not all documents listed in the index may be publicly available, such as information that is exempt from public disclosure.

A link to the docket Web page can be found at: http://www1.eere.energy.gov/buildings/appliance_standards/product.aspx/productid/74. This Web page contains a link to the docket for this notice on the www.regulations.gov Web site. The www.regulations.gov Web page contains simple instructions on how to access all documents, including public comments, in the docket.

For information about how to submit a comment, review other public comments and the docket, or participate in the public meeting, contact Ms. Brenda Edwards at (202) 586-2945 or by email: Brenda.Edwards@ee.doe.gov.

FOR FURTHER INFORMATION CONTACT:

Mr. James Raba, U.S. Department of Energy, Office of Energy Efficiency and Renewable Energy, Building Technologies Office, EE-2J, 1000 Independence Avenue SW., Washington, DC 20585-0121. Telephone: (202) 586-8654. Email: commercial_packaged_boilers@ee.doe.gov.

Mr. Eric Stas, U.S. Department of Energy, Office of the General Counsel, GC-71, 1000 Independence Avenue SW., Washington, DC 20585-0121. Telephone: (202) 586-9507. Email: Eric.Stas@hq.doe.gov.

For information on how to submit or review public comments and on how to participate in the public meeting, contact Ms. Brenda Edwards, U.S. Department of Energy, Office of Energy Efficiency and Renewable Energy, Building Technologies Office, EE-2J, 1000 Independence Avenue SW., Washington, DC 20585-0121. Telephone: (202) 586-2945. Email: Brenda.Edwards@ee.doe.gov.

SUPPLEMENTARY INFORMATION: Title III, Part C ¹ of the Energy Policy and Conservation Act of 1975 (EPCA), Public Law 94-163 (42 U.S.C. 6311-6317, as codified), added by Public Law 95-619, Title IV, section 441(a), sets forth a variety of provisions designed to improve energy efficiency, and it established the “Energy Conservation Program for Certain Industrial Equipment,” a program covering certain commercial and industrial equipment (hereafter referred to as “covered equipment”), which includes the commercial packaged boilers that are the focus of this notice.² Part A-1 includes definitions (42 U.S.C. 6311), energy conservation standards (42 U.S.C. 6313), test procedures (42 U.S.C. 6314), labeling provisions (42 U.S.C. 6315), and the authority to require compliance information and certification reports from manufacturers of covered equipment (42 U.S.C. 6316). Moreover, EPCA authorizes DOE to establish technologically feasible, economically justified energy conservation regulations for certain products and equipment that would be likely to result in significant national energy savings. (42 U.S.C. 6295(o)(2)(B)(i)(I)-(VII))

¹ For editorial reasons, upon codification in the U.S. Code, Part C was redesignated Part A-1.

² All references to EPCA in this document refer to the statute as amended through the American Energy Manufacturing Technical Corrections Act (AEMTCA), Public Law 112-210 (Dec. 18, 2012).

EPCA covers many types of commercial and industrial equipment, including packaged boilers. (42 U.S.C. 6311(1)(J)) EPCA defines the term “packaged boiler” to mean “a boiler that is shipped complete with heating equipment, mechanical draft equipment, and automatic controls; usually shipped in one or more sections.” (42 U.S.C. 6311(11)(B)) EPCA prescribed minimum efficiency levels (combustion efficiency) both for gas-fired packaged boilers and oil-fired packaged boilers with rated maximum input capacities of 300,000 British thermal units (Btus) or more. (42 U.S.C. 6313(a)(4)(C) and (D)) The minimum efficiency levels generally correspond to the levels set in the American Society of Heating, Refrigeration, and Air-Conditioning Engineers (ASHRAE)/Illuminating Engineering Society (IES) Standard 90.1.³ Further, EPCA provides if ASHRAE/IES Standard 90.1 is amended with respect to packaged boilers, then DOE shall consider amending the prescribed minimum efficiency levels. (42 U.S.C. 6313((a)(6)) In other words, when ASHRAE amends the efficiency levels for packaged boilers in Standard 90.1, DOE must adopt the new ASHRAE requirements unless clear and convincing evidence supports a determination that adoption of a more-stringent level would produce significant additional energy savings and would be technologically feasible and economically justified. (42 U.S.C. 6313(a)(6))

³ For more information, see www.ashrae.org.

In the event that ASHRAE does not act to amend Standard 90.1 (thereby triggering DOE to conduct an amended standards rulemaking), EPCA provides an alternative statutory mechanism for initiating such review. More specifically, EPCA requires that every six years, the Secretary of Energy (Secretary) shall consider amending the energy conservation standards for covered commercial equipment and shall publish either a notice of determination that those standards do not need to be amended, or a notice of proposed rulemaking for more-stringent energy efficiency standards. (42 U.S.C. 6313(a)(6)(C))

In 2009, DOE acted in response to an ASHRAE trigger and published a final rule amending the energy conservation standards for commercial packaged boilers to correspond to the efficiency levels (thermal efficiency) in the most recent ASHRAE Standard 90.1 which amended commercial packaged boiler efficiency levels (i.e., ASHRAE Standard 90.1-2007). 74 FR 36312 (July 22, 2009).

In addition, EPCA prescribes test procedures for packaged boilers which are generally accepted industry testing procedures or rating procedures developed or recognized by the Air-Conditioning and Refrigeration Institute ⁴ (ARI) or by ASHRAE, as referenced in ASHRAE/IES Standard 90.1. (42 U.S.C. 6314(a)(4)(A)) Furthermore, EPCA directs that if an industry test procedure or rating procedure for packaged boilers is amended, then DOE shall amend the test procedure as necessary for the equipment to be consistent with the amended industry procedure. (42 U.S.C. 6314(a)(4)(B)) In addition to requiring DOE to update its test method each time the relevant industry test procedure is modified, EPCA requires that DOE conduct an evaluation of its test procedure for each covered class of equipment at least once every seven years. (42 U.S.C. 6314(a)(1)(A)) DOE last reviewed its test procedures for commercial packaged boilers in a final rule published in the Federal Register on July 22, 2009 (77 FR 36312), so DOE must evaluate the test procedures for this equipment not later than July 22, 2016. DOE is considering updating the test procedures for commercial packaged boilers in a separate proceeding that would occur in parallel with the energy conservation standards analysis outlined in this Framework Document. DOE aims to publish a final rule for the test procedure rulemaking prior to completing the energy conservation standards rulemaking.

⁴ The Air-Conditioning and Refrigeration Institute (ARI) has been renamed the Air-Conditioning, Heating, and Refrigeration Institute (AHRI).

In view of the foregoing, DOE has prepared the Framework Document to explain the relevant issues, analyses, and processes it anticipates using when considering amended energy conservation standards for commercial packaged boilers. The focus of the public meeting noted above will be to discuss the information presented and issues identified in the Framework Document. At the public meeting, DOE will make presentations and invite discussion on the rulemaking process as it applies to commercial packaged boilers. DOE will also solicit comments, data, and information from participants and other interested parties.

DOE is planning to conduct in-depth technical analyses in the following areas: (1) Engineering; (2) energy-use characterization; (3) equipment price; (4) life-cycle cost and payback period; (5) national impacts; (6) manufacturer impacts; (7) utility impacts; (8) employment impacts; (9) emission impacts; and (10) regulatory impacts. DOE will also conduct several other analyses that support those previously listed, including a market and technology assessment, a screening analysis (which contributes to the engineering analysis), and a shipments analysis (which contributes to the national impact analysis).

Public Participation: DOE encourages those who wish to participate in the public meeting to obtain the Framework Document and to be prepared to discuss its contents. A copy of the Framework Document is available at: http://www1.eere.energy.gov/buildings/appliance_standards/product.aspx/productid/74.

Public meeting participants need not limit their comments to the issues identified in the Framework Document. DOE is also interested in comments on other relevant issues that participants believe would affect energy conservation standards for this equipment, applicable test procedures, or the preliminary determination on the scope of coverage. DOE invites all interested parties, whether or not they participate in the public meeting, to submit in writing by October 18, 2013, comments and information on matters addressed in the Framework Document and on other matters relevant to DOE's consideration of coverage of and amended energy conservation standards for commercial packaged boilers.

The public meeting will be conducted in an informal, facilitated, conference style. There shall be no discussion of proprietary information, costs or prices, market shares, or other commercial matters covered under by U.S. antitrust laws. A court reporter will record the proceedings of the public meeting, after which a transcript will be available for purchase from the court reporter and placed on the DOE Web site at: http://www1.eere.energy.gov/buildings/appliance_standards/product.aspx/productid/74.

After the public meeting and the close of the comment period for the Framework Document, DOE will begin collecting data, conducting the analyses described in the Framework Document and at the public meeting, and reviewing the public comments received.

DOE considers public participation to be a very important part of the process for determining whether to amend the energy conservation standards for commercial packaged boilers and, if so, in setting amended standards levels. DOE actively encourages the participation and interaction of the public during the comment period established for each stage of the rulemaking process. Beginning with the Framework Document and during each subsequent public meeting and comment period, interactions with and among members of the public provide a balanced discussion of the issues and assist DOE in the standards rulemaking process. Accordingly, anyone who wishes to participate in the public meeting, receive meeting materials, or be added to the DOE mailing list to receive future notices and information about this rulemaking should contact Ms. Brenda Edwards at (202) 586-2945, or via email at Brenda.Edwards@ee.doe.gov.

Issued in Washington, DC, on August 28, 2013.
Kathleen B. Hogan,
Deputy Assistant Secretary for Energy Efficiency, Energy Efficiency and Renewable Energy.

[FR Doc. 2013-21346 Filed 8-30-13; 8:45 am]

BILLING CODE 6450-01-P